DEPARTMENT OF ENERGY

Federal Energy Regulatory Commission

Combined Notice of Filings #1

Take notice that the Commission received the following electric rate filings:

Docket Numbers: ER10-2474-001; ER10-2475-001.

Applicants: Sierra Pacific Power Company, Nevada Power Company

Description: Change in Status Notice of Sierra Pacific Power Company and Nevada Power Company.

Filed Date: 02/18/2011.

Accession Number: 20110218-5090.

Comment Date: 5 p.m. Eastern Time on Friday, March 11, 2011.

Docket Numbers: ER11-2178-001.

Applicants: Southern California Edison Company.

Description: Southern California Edison Company submits tariff filing per 35: Compliance to Addition of 3 transmission projects to CWIP Rate Making Mechanism to be effective 1/1/2011.

Filed Date: 02/18/2011.

Accession Number: 20110218-5021.

Comment Date: 5 p.m. Eastern Time on Friday, March 11, 2011.

Docket Numbers: ER11-2907-000.

Applicants: PacifiCorp.

Description: PacifiCorp submits tariff filing per 35.13(a)(2)(iii: PacifiCorp Energy Facilities Maintenance Agreement (Hunter) to be effective 1/28/2011.

Filed Date: 02/17/2011.

Accession Number: 20110217-5099.

Comment Date: 5 p.m. Eastern Time on Thursday, March 10, 2011.

Docket Numbers: ER11-2908-000.

Applicants: Midwest Independent Transmission System Operator, Inc.

Description: Midwest Independent Transmission System Operator, Inc. submits tariff filing per 35.13(a)(2)(iii: 02-17-11 Supp. Res. to be effective 4/19/2011 under ER11-2908-000 Filing Type: 10.

Filed Date: 02/17/2011.

Accession Number: 20110217-5102.

Docket Numbers: ER11-2909-000.

Applicants: Atlantic Path 15, LLC.

Description: Atlantic Path 15, LLC submits tariff filing per 35.13(a)(2)(iii: AP 15 2011 Rate Case Filing to be effective 4/19/2011.

Filed Date: 02/18/2011.

Accession Number: 20110218-5033.

Comment Date: 5 p.m. Eastern Time on Friday, March 11, 2011.

Docket Numbers: ER11-2910-000.

Applicants: Midwest Independent Transmission System, MidAmerican Energy Company.

Description: Midwest Independent Transmission System Operator, Inc. submits tariff filing per 35.13(a)(2)(iii: MidAmerican-Ames WDS Filing (2) to be effective 4/1/2011.

Filed Date: 02/18/2011.

Accession Number: 20110218-5034.

Comment Date: 5 p.m. Eastern Time on Friday, March 11, 2011.

Docket Numbers: ER11-2911-000.

Applicants: New York Independent System Operator, Inc., Niagara Mohawk Power Corporation.

Description: New York Independent System Operator, Inc. submits tariff filing per 35.13(a)(2)(iii: SGIA Between Niagara Mohawk and U.S. Gypsum to be effective 1/27/2011.

Filed Date: 02/18/2011.

Accession Number: 20110218-5035.

Comment Date: 5 p.m. Eastern Time on Friday, March 11, 2011.

Docket Numbers: ER11-2912-000.

Applicants: ISO New England Inc., New England Power Pool Participants Committee.

Description: ISO New England Inc. submits tariff filing per 35.13(a)(2)(iii: MR1 FCM Maintenance Allotment Values to be effective 5/1/2011.

Filed Date: 02/18/2011.

Accession Number: 20110218-5063.

Comment Date: 5 p.m. Eastern Time on Friday, March 11, 2011.

Docket Numbers: ER11-2913-000.

Applicants: PJM Interconnection, L.L.C.

Description: PJM Interconnection, L.L.C. submits tariff filing per 35.13(a)(2)(iii: Credit-Limit Offers to be effective 4/20/2011.

Filed Date: 02/18/2011.

Accession Number: 20110218-5064.

Comment Date: 5 p.m. Eastern Time on Friday, March 11, 2011.

Docket Numbers: ER11-2914-000.

Applicants: Midwest Independent Transmission System Operator, Inc.

Description: Midwest Independent Transmission System Operator, Inc. submits tariff filing per 35.13(a)(2)(iii: GRE-NSP-Lyon T-T Filing to be effective 2/19/2011.

Filed Date: 02/18/2011.

Accession Number: 20110218-5065.

Comment Date: 5 p.m. Eastern Time on Friday, March 11, 2011.

Docket Numbers: ER11-2915-000.

Applicants: Midwest Independent Transmission System Operator, Inc.

Description: Midwest Independent Transmission System Operator, Inc. submits tariff filing per 35.13(a)(2)(iii: GRE-NSPM-Pilot Knob T-T to be effective 2/19/2011.

Filed Date: 02/18/2011.

Accession Number: 20110218-5067.

Comment Date: 5 p.m. Eastern Time on Friday, March 11, 2011.

Docket Numbers: ER11-2916-000.

Applicants: Southwest Power Pool, Inc.

Description: Submission of Notice of Cancellation of Large Generator Interconnection Agreement of Southwest Power Pool, Inc.

Filed Date: 02/18/2011.

Accession Number: 20110218-5086.

Comment Date: 5 p.m. Eastern Time on Friday, March 11, 2011.

Docket Numbers: ER11-2917-000.

Applicants: Midwest Independent Transmission System Operator, Inc.

Description: Midwest Independent Transmission System Operator, Inc. submits tariff filing per 35.13(a)(2)(iii: 02-18-11 Schedule 31 annual update to be effective 4/20/2011.

Filed Date: 02/18/2011.

Accession Number: 20110218-5087.

Comment Date: 5 p.m. Eastern Time on Friday, March 11, 2011.

Docket Numbers: ER11-2918-000.

Applicants: Oklahoma Gas and Electric Company.

Description: Oklahoma Gas and Electric Company submits tariff filing per 35.13(a)(2)(iii: City of Paris Amended and Restated Service Agreement to be effective 4/19/2011.

Filed Date: 02/18/2011.

Accession Number: 20110218-5112.

Comment Date: 5 p.m. Eastern Time on Friday, March 11, 2011.

Docket Numbers: ER11-2919-000.

Applicants: PJM Interconnection, L.L.C., Appalachian Power Company

Description: PJM Interconnection, L.L.C. submits tariff filing per 35.13(a)(2)(iii: AEPSC filed a 24th revision to the AEPSC & Buckeye ILDSA under SA #1336 to be effective 2/21/2011.

Filed Date: 02/18/2011.

Accession Number: 20110218-5115.

Comment Date: 5 p.m. Eastern Time on Friday, March 11, 2011.

Docket Numbers: ER11-2920-000.

Applicants: Consolidated Edison Company of New York,

Description: Consolidated Edison Company of New York, Inc. submits tariff filing per 35.13(a)(2)(iii: Amendment DR for Rider U to be effective 2/19/2011.

Filed Date: 02/18/2011.

Accession Number: 20110218-5130.

Comment Date: 5 p.m. Eastern Time on Friday, March 11, 2011.

Take notice that the Commission received the following electric reliability filings:

Docket Numbers: RR10-11-003.

Applicants: North American Electric Reliability Corporation.

Description: Compliance Filing of the North American Electric Reliability Corporation in Response to October 21 2010 Commission Order.

Filed Date: 02/18/2011.

Accession Number: 20110218-5100.

Comment Date: 5 p.m. Eastern Time on Friday, March 11, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: February 18, 2011.
Nathaniel J. Davis, Sr.,
Deputy Secretary.

[FR Doc. 2011-4318 Filed 2-25-11; 8:45 am]

BILLING CODE 6717-01-P